SMALL BUSINESS ADMINISTRATION

National Small Business Development Center Advisory Board; Public Meeting

Pursuant to the Federal Advisory Committee Act, Appendix 2 of Title 5, United States Code, Public Law 92-463, notice is hereby given that the U.S. Small Business Administration (SBA), National Small Business Development Centers Advisory Board will be hosting a public meeting via conference call on Tuesday, November 20, 2007 at 1 p.m. Eastern Standard Time.

The purpose of the meeting is to discuss and finalize the recorded minutes from the State Director's Town Hall Meeting that was held at the Association of Small Business Development Centers (ASBDC) Annual Conference in Denver, Colorado on September 16-20, 2007.

Anyone wishing to make an oral presentation to the Board must contact Alanna Falcone, Program Analyst, U.S. Small Business Administration, Office of Small Business Development Centers, 409 3rd Street, SW., Washington, DC 20416, telephone (202) 619-1612 or fax (202) 481-0134.

Matthew Teague,
Committee Management Officer.

[FR Doc. E7-21409 Filed 10-30-07; 8:45 am]

BILLING CODE 8025-01-P